DEPARTMENT OF COMMERCE

Foreign-Trade Zones Board

[Docket 26-2009]

Foreign-Trade Zone 73 - Baltimore/Washington International Airport, MD, Application for Subzone IKEA Wholesale, Inc. (Home furnishings and accessories), Perryville, MD

An application has been submitted to the Foreign-Trade Zones Board (the Board) by the Maryland Department of Transportation/ Maryland Aviation Administration, grantee of FTZ 73, requesting special-purpose subzone status for the warehousing and distribution facility of IKEA Wholesale Inc. (IKEA), located in Perryville, Maryland. The application was submitted pursuant to the provisions of the Foreign-Trade Zones Act, as amended (19 U.S.C. 81a-81u), and the regulations of the Board (15 CFR part 400). It was formally filed on July 2, 2009.

The IKEA facility (400 full-time and part-time employees, 242 acres/ 1.7 million square feet) is located at 100 Ikea Way, Perryville, Maryland. The facility is used for the storage and distribution of merchandise that includes: housewares and home furnishings, home textiles, glassware, kitchenware, appliances, cutlery, furniture, flooring and floor coverings, window treatments and fixtures, lighting fixtures, lamps, electrical products, batteries, hand tools, closet and storage accessories, office accessories, paper products, computers, CDs and DVDs, clocks and timers, toys, sporting goods, seasonal decorations, home recreation/entertainment items, and brooms and brushes (duty rate range: from free to 38%).

FTZ procedures could exempt IKEA from customs duty payments on the foreign goods exported from the proposed subzone. The company anticipates that some 25 percent of the facility's shipments will be exported. On its domestic sales, the company would be able to defer duty payments until merchandise is shipped from the facility and entered for consumption. FTZ designation would further allow IKEA to realize logistical benefits through the use of weekly customs entry procedures. The request indicates that the savings from FTZ procedures would help improve the facility's international competitiveness.

In accordance with the Board's regulations, Pierre Duy of the FTZ Staff is designated examiner to evaluate and analyze the facts and information presented in the application and case record and to report findings and recommendations to the Board.Public comment is invited from interested parties. Submissions (original and 3 copies) shall be addressed to the Board's Executive Secretary at the address below. The closing period for their receipt is September 11, 2009. Rebuttal comments in response to material submitted during the foregoing period may be submitted during the subsequent 15-day period to September 28, 2009.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Pierre Duy at: pierre_duy@ita.doc.gov, or (202) 482-1378.

Dated: July 2, 2009.
Andrew McGilvray,
Executive Secretary.

[FR Doc. E9-16515 Filed 7-10-09; 8:45 am]

BILLING CODE 3510-DS-S